DEPARTMENT OF COMMERCE

National Oceanic and Atmospheric Administration

RIN 0648-XD340

Marine Mammals; File No. 18523

AGENCY: National Marine Fisheries Service (NMFS), National Oceanic and Atmospheric Administration (NOAA), Commerce.

ACTION: Notice; issuance of permit.

SUMMARY: Notice is hereby given that a permit has been issued to Heather Liwanag, Ph.D., Adelphi University, Biology Department, 1 South Avenue, Garden City, NY 11530, to receive, import, and export marine mammal specimens for scientific research purposes.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Jennifer Skidmore, (301) 427-8401.

SUPPLEMENTARY INFORMATION: On July 2, 2014, notice was published in the Federal Register (79 FR 37719) that a request for a permit to receive, import, and export marine mammal specimens for scientific research had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 18523-00 authorizes the holder to receive, import, and export unlimited samples from up to 1,500 individuals of each species of cetacean, and from up to 1,500 individuals of each species of pinniped (excluding walrus), annually. Marine mammal samples may be obtained from the following sources: (1) Animals killed during legal subsistence harvests; (2) animals that died incidental to legal commercial fishing operations; (3) animals stranded in foreign countries; (4) samples collected from captive animals; and (5) samples from other authorized researchers and collections. Samples collected from stranded animals in the U.S. and received under separate authorization may be exported and re-imported. The permit expires on October 31, 2019.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: December 2, 2014.
Julia Harrison,
Chief, Permits and Conservation Division, Office of Protected Resources, National Marine Fisheries Service.

[FR Doc. 2014-28676 Filed 12-5-14; 8:45 am]

BILLING CODE 3510-22-P